DEPARTMENT OF HEALTH AND HUMAN SERVICES

42 CFR Part 83

Procedures for Designating Classes of Employees as Members of the Special Exposure Cohort Under the Energy Employees Occupational Illness Compensation Program Act of 2000; Meetings

AGENCY: Department of Health and Human Services.

ACTION: Proposed rule; notice of meetings and opportunity to comment.

SUMMARY: The National Institute for Occupational Safety and Health (NIOSH) of the Centers for Disease Control and Prevention (CDC), announces public meetings to present the U.S. Department of Health and Human Services (HHS) proposed rule for adding classes of employees to the Special Exposure Cohort Under the Energy Employees Occupational Illness Compensation Program Act.

FOR FURTHER INFORMATION CONTACT: Larry Elliott, Executive Secretary, ABRWH, NIOSH, CDC, 4676 Columbia Parkway, Cincinnati, Ohio 45226, telephone 513/841-4498, fax 513/458-7125.

SUPPLEMENTARY INFORMATION: Time and Date: 7 p.m.-9 p.m., July 23, 2002.

Place: Buffalo Niagara Marriott, 1340 Millersport Highway, Amherst, New York. Telephone: 716/689-6900.

Time and Date: 7 p.m.-9 p.m., July 25, 2002.

Place: Sharonville Convention Center, 11355 Chester Road, Sharonville, Ohio. Telephone: 513/771-7744.

Time and Date: 7 p.m.-9 p.m., August 7, 2002.

Place: Red Lion Hotel, Richland Hanford House, 802 George Washington Way, Richland, Washington. Telephone: 509/943-7611.

Time and Date: 7 p.m.-9 p.m., August 8, 2002.

Place: Espanola Senior Citizens Center, 735 Vietnam Veterans' Memorial Park Road, Espanola, New Mexico. Telephone: 505/753-9850.

Status: Open to the public, limited only by the space available. The meeting rooms accommodate approximately 150 people.

Matters To Be Discussed: In July 2001, the U.S. Department of Labor (DOL) began a new federal compensation program under the Energy Employees' Occupational Illness Compensation Program Act (the Act). The compensation program serves employees of the U.S. Department of Energy (DOE), its contractors, or subcontractors, and the employees of Atomic Weapons Employers designated by DOE, and survivors of these employees. The compensation program covers claims for current or former employees who developed chronic beryllium disease, beryllium sensitization, silicosis, or cancers associated with certain defined occupational exposures occurring in the performance of duty for U.S. nuclear weapons programs. Claims for cancer have to meet conditions related to one of two general requirements: either (1) the cancer of the employee has to be found to have been at least as likely as not caused by radiation doses incurred by the employee in the performance of duty for the nuclear weapons programs, or (2) the employee must be a member of the “Special Exposure Cohort” and have developed one of 22 specific cancer types, referred to as “specified cancers.”

The Act defined the initial membership of the Special Exposure Cohort to include qualified employees who worked at any of three gaseous diffusion plants of the U.S. Department of Energy or a nuclear weapons test site in Amchitka, Alaska. However, the Act also allows classes of employees from facilities of DOE or of Atomic Weapons Employers to petition to be added to the Special Exposure Cohort. The outcome of the petitions will be decided by the Secretary, HHS. The procedures for making and deciding such petitions are described in a rule (a regulation) recently proposed by HHS for public comment (42 CFR part 83: “Procedures for Designating Classes of Employees as Members of the Special Exposure Cohort under the Energy Employees Occupational Illness Compensation program Act of 2000:” Notice of Proposed Rulemaking; 67 FR 42962; June 25, 2002). The public comment period ends on August 26, 2002.

Purpose: The purpose of these public meetings is to present and explain the recent proposed rule by the HHS on how it would consider petitions to add classes of employees to the “Special Exposure Cohort” established under the Energy Employees” Occupational Illness Compensation Program Act. The meetings will allow members of the public to comment in person on this proposed regulation.

Matters To Be Discussed: HHS staff will give a summary presentation of the proposed rule. The public attending these meetings will have the opportunity to ask questions about the HHS rule and to comment on the rule. The public attending these meetings will also be encouraged to submit written comments to the regulatory record (docket). Official transcripts of the meetings, including all public comments on the proposed rule presented orally during the meetings, will be included in the public comment record (the ‘docket’) developed as part of the HHS rule making. HHS will consider comments received during the public comment period, which concludes on August 26, 2002, before issuing a final rule establishing procedures for adding classes of employees to the Special Exposure Cohort.

The Director, Management Analysis and Services Office, has been delegated the authority to sign Federal Register notices pertaining to announcements of meetings and other committee management activities for both CDC and ATSDR.

Dated: July 15, 2002.
John C. Burckhardt,
Acting Director, Management Analysis and Services Office, Centers for Disease Control and Prevention.

[FR Doc. 02-18361 Filed 7-18-02; 8:45 am]

BILLING CODE 4163-19-P